DEPARTMENT OF TRANSPORTATION

Federal Aviation Administration

14 CFR Part 71

[Docket No. FAA-2025-5244; Airspace Docket No. 25-AGL-8]

RIN 2120-AA66

Amendment of Jet Routes J-70 and J-94 and Amendment of Very High Frequency Omnidirectional Range Federal Airways V-30, V-55, V-84, V-170, and V-274 and Revocation of Jet Routes J-547 and J-548 in the Vicinity of Pullman, MI

AGENCY: Federal Aviation Administration (FAA), DOT.

ACTION: Notice of proposed rulemaking (NPRM).

SUMMARY: This action proposes to amend Jet Routes J-70 and J-94; amend Very High Frequency Omnidirectional Range (VOR) Federal Airways V-30, V-55, V-84, V-170, and V-274; and revoke Jet Routes J-547 and J-548 in the vicinity of Pullman, MI. The FAA is proposing this action due to the planned decommissioning of the VOR portion of the Pullman, MI, VOR/Distance Measuring Equipment (DME) navigational aid (NAVAID). This NAVAID is being decommissioned as part of the FAA's VOR Minimum Operational Network (MON) program.

DATES: Comments must be received on or before January 26, 2026.

ADDRESSES: Send comments identified by FAA Docket No. FAA-2025-5244 and Airspace Docket No. 25-AGL-8 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11K, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Steven Roff, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would amend the airway structure as necessary to preserve the safe and efficient flow of air traffic within the National Airspace System.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Operations Support Group, Central Service Center, Federal Aviation Administration, 10101 Hillwood Parkway, Fort Worth, TX 76177.

Incorporation by Reference

Jet Routes are published in paragraph 2004 and VOR Federal Airways are published in paragraph 6010 of FAA Order JO 7400.11, Airspace Designations and Reporting Points, which is incorporated by reference in 14 CFR 71.1 on an annual basis. This document proposes to amend the current version of that order, FAA Order JO 7400.11K, dated August 4, 2025, and effective September 15, 2025. These updates would be published in the next update to FAA Order JO 7400.11. FAA Order JO 7400.11K, which lists Class A, B, C, D, and E airspace areas, air traffic service routes, and reporting points, is publicly available as listed in the ADDRESSES section of this document.

Background

The FAA is planning to decommission the VOR portion of the Pullman, MI, VOR/DME in September of 2026. The Pullman VOR is one of the candidate VORs identified for discontinuance by the FAA's VOR MON program and listed in the final policy statement notice, “Provision of Navigation Services for the Next Generation Air Transportation System (NextGen) Transition to Performance-Based Navigation (PBN) (Plan for Establishing a VOR Minimum Operational Network),” published in the Federal Register on July 26, 2016 (81 FR 48694), Docket No. FAA-2011-1082.

Although the VOR portion of the Pullman VOR/DME is planned for decommissioning, the co-located DME portion of the NAVAID is being retained. The DME portion is being retained in support of current and future NextGen PBN procedures. The Air Traffic Service (ATS) routes affected by the planned decommissioning of the Pullman VOR are J-70, J-94, J-547, J-548, V-30, V-55, V-84, V-170, and V-274.

J-70 currently extends between the Hoquiam, WA, VOR/Tactical Air Navigation (VORTAC) and the Kennedy, NY, VOR/DME. A portion of J-70, between the Badger, WI, VOR/DME and the Salem, MI, VORTAC will become unusable with the decommissioning of the Pullman VOR.

J-94 currently extends between the Mustang, NV, VORTAC and the O'Neill, NE, VORTAC and between the Dubuque, IA, VORTAC and the Flint, MI, VORTAC. A portion of J-94, between the Northbrook, IL, VOR/DME and the Flint VORTAC will become unusable with the decommissioning of the Pullman VOR. Additionally, the FAA proposes to revoke the portion between the Dubuque VORTAC and the Northbrook VOR/DME as this portion is overlaid by J-82, J-84, J-94, J-100, and J-128.

J-547 currently extends between the Northbrook, IL, VOR/DME and the Flint, MI, VORTAC. The entire route will become unusable with the decommissioning of the Pullman VORTAC. Due to this, the FAA is proposing to revoke J-547 in its entirety.

J-548 currently extends between the Pullman, MI, VOR/DME and the Traverse City, MI, VOR/DME. The entire route will become unusable with the decommissioning of the Pullman VORTAC. Due to this, the FAA is proposing to revoke J-548 in its entirety.

V-30 currently extends between the Badger, WI, VOR/DME and the Pullman, MI, VOR/DME and between the Philipsburg, PA, VORTAC and the Solberg, NJ, VOR/DME. A portion of J-30, between the Badger VOR/DME and the Pullman VOR/DME will become unusable with the decommissioning of the Pullman VOR. The FAA proposes to revoke the affected portion.

V-55 currently extends between the Dayton, OH, VOR/DME and the Fort Wayne, IN, VORTAC, between the Keeler, MI, and the Pullman, MI, VOR/DME and between the Grand Forks ND, VOR/DME and the Bismark, ND VOR/DME. A portion of V-55, between the Keeler, MI, VOR/DME and the Pullman VOR/DME will become unusable with the decommissioning of the Pullman VOR. The FAA is proposing to revoke the affected portion.

V-84 currently extends between the Northbrook, IL, VOR/DME and the Pullman, MI, VOR/DME and between Geneseo, NY, VOR/DME and the Syracuse, NY, VORTAC. A portion of V-84, between the Northbrook, IL, VOR/DME and the Pullman, MI, VOR/DME will become unusable with the decommissioning of the Pullman VOR. The FAA is proposing to revoke the affected portion.

V-170 currently extends between the Jamestown, ND, VOR/DME and the Sioux Falls, SD, VORTAC, between the Rochester, MN, VOR/DME and the Salem, MI, VORTAC and between the Slate Run, PA, VORTAC and the INT Andrews, MD, VORTAC 060° and Baltimore, MD, VORTAC 165° radials (POLLA, MD, FIX). A portion of V-170, between the Badger, WI, VOR/DME and the Salem VORTAC will become unusable with the decommissioning of the Pullman VOR. The FAA is proposing to revoke the affected portion.

V-274 currently extends between the Pullman, MI, VOR/DME and the Saginaw, MI, VOR/DME. A portion of V-274, between the Pullman VOR/DME and the Victory, MI, VOR/DME will become unusable with the decommissioning of the Pullman VOR. The FAA is proposing to revoke the affected portion.

To overcome the gaps created in the airways and enroute structures, pilots may circumnavigate the affected area in the high-altitude stratum via the use of adjacent Jet Routes (including J-36, J-146, and J-34). Due to previous VOR decommissionings, there are no VOR Federal airways that remain in the low altitude stratum to circumnavigate the affected area. However, pilots may request air traffic control radar vectors through the area. Additionally, Instrument Flight Rules (IFR) pilots equipped with Area Navigation Performance-Based Navigation capabilities could also navigate point to point using the existing fixes that will remain in place to support continued operations via High Altitude Area Navigation Route Q-42, or via Low Altitude Area Navigation Routes T-215, T-217 and T-265. Visual flight rules (VFR) pilots who elect to navigate via the airways through the affected area could also take advantage of the adjacent VOR Federal airways or ATC services listed previously.

The Proposal

The FAA is proposing an amendment to 14 CFR part 71 to amend Jet Routes J-70 and J-94 and amend VOR Federal Airways V-30, V-55, V-84, V-170, and V-274 and revoke Jet Routes J-547 and J-548 in the vicinity of Pullman, MI.

J-70: J-70 currently extends between the Hoquiam, WA, VOR/VORTAC and the Kennedy, NY, VOR/DME. A portion of J-70, between the Badger, WI, VOR/DME and the Salem, MI, VORTAC will become unusable with the decommissioning of the Pullman, MI, VOR. As amended, J-70 would extend between the Hoquiam VORTAC and the Badger, WI, VOR/DME and between the Salem, MI, VORTAC and the Kennedy VOR/DME.

J-94: J-94 currently extends between the Mustang, NV, VORTAC and the O'Neill, NE, VORTAC and between the Dubuque, IA, VORTAC and the Flint, MI, VORTAC. A portion of J-94, between the Northbrook, IL, VOR/DME and the Flint VORTAC will become unusable with the decommissioning of the Pullman, MI, VOR. Additionally, the FAA proposes to revoke the portion between the Dubuque VORTAC and the Northbrook VOR/DME as this portion is overlaid by J-82, J-84, J-94, J-100, and J-128. As amended, J-94 would extend between the Mustang VORTAC and the O'Neill, NE, VORTAC.

J-547: J-547 currently extends between the Northbrook, IL, VOR/DME and the Flint, MI, VORTAC. The entire route will become unusable with the decommissioning of the Pullman, MI, VORTAC. Due to this, the FAA is proposing to revoke J-547 in its entirety.

J-548: J-548 currently extends between the Pullman, MI, VOR/DME and the Traverse City, MI, VOR/DME. The entire route will become unusable with the decommissioning of the Pullman VOR. Due to this, the FAA is proposing to revoke J-548 in its entirety.

V-30: V-30 currently extends between the Badger, WI, VOR/DME and the Pullman, MI, VOR/DME and between the Philipsburg, PA, VORTAC and the Solberg, NJ, VOR/DME. A portion of V-30, between the Badger VOR/DME and the Pullman VOR/DME will become unusable with the decommissioning of the Pullman VOR. The FAA proposes to revoke the affected portion. As amended, V-30 would extend between the Philipsburg VORTAC and the Solberg VOR/DME.

V-55: V-55 currently extends between the Dayton, OH, VOR/DME and the Fort Wayne, IN, VORTAC, between the Keeler, MI, and the Pullman, MI, VOR/DME and between the Grand Forks, ND, VOR/DME and the Bismark, ND, VOR/DME. A portion of V-55, between the Keeler, MI, VOR/DME and the Pullman VOR/DME will become unusable with the decommissioning of the Pullman VOR. The FAA is proposing to revoke the affection portion. As amended, V-55 would extend between the Dayton VOR/DME and the Keeler VOR/DME and between the Grand Forks VOR/DME and the Bismarck VOR/DME.

V-84: V-84 currently extends between the Northbrook, IL, VOR/DME and the Pullman, MI, VOR/DME and between Geneseo, NY, VOR/DME and the Syracuse, NY, VORTAC. A portion of V-84, between the Northbrook, IL, VOR/DME and the Pullman, MI, VOR/DME will become unusable with the decommissioning of the Pullman VOR. The FAA is proposing to revoke the affected portion. As amended, V-84 would extend between the Geneseo VOR/DME and the Syracuse VORTAC.

V-170: V-170 currently extends between the Jamestown, ND, VOR/DME and the Sioux Falls, SD, VORTAC, between the Rochester, MN, VOR/DME and the Salem, MI, VORTAC and between the Slate Run, PA, VORTAC and the INT Andrews, MD, VORTAC 060° and Baltimore, MD, VORTAC 165° radials (POLLA, MD, Fix). A portion of V-170, between the Badger, WI, VOR/DME and the Salem VORTAC will become unusable with the decommissioning of the Pullman VOR. The FAA is proposing to revoke the affected portion. As amended, V-170 would extend between the Jamestown VOR/DME and the Badger VOR/DME and between the Slate Run VORTAC and the INT Andrews VORTAC 060° and Baltimore VORTAC 165° radials. The airspace within R-5802 is excluded when active.

V-274: V-274 currently extends between the Pullman, MI, VOR/DME and the Saginaw, MI, VOR/DME. A portion of V-274, between the Pullman VOR/DME and the Victory, MI, VOR/DME will become unusable with the decommissioning of the Pullman VOR. The FAA is proposing to revoke the affected portion. As amended, V-274 would extend between the Victory VOR/DME and the Saginaw VOR/DME.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1G, “FAA National Environmental Policy Act Implementing Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11K, Airspace Designations and Reporting Points, dated August 4, 2025, and effective September 15, 2025, is amended as follows:

Paragraph 2004 Jet Routes.

* * * * *

J-70 [Amended]

From Hoquiam, WA; Seattle, WA; Ephrata, WA; Mullan Pass, ID; Lewistown, MT; Dickinson, ND; Aberdeen, SD; Gopher, MN; INT Gopher 109° and the Badger, WI, 312° radials; to Badger. From Salem, MI; Jamestown, NY; Wilkes-Barre, PA; Stillwater, NJ; LaGuardia, NY; to Kennedy, NY.

* * * * *

J-94 [Amended]

From Mustang, NV; Lovelock, NV; Battle Mountain, NV; Lucin, UT; Rock Springs, WY; Scottsbluff, NE; to O'Neill, NE.

* * * * *

J-547 [Removed]

* * * * *

J-548 [Removed]

* * * * *

Paragraph 6010 VOR Federal Airways.

* * * * *

V-30 [Amended]

From Philipsburg, PA; Selinsgrove, PA; East Texas, PA; INT East Texas 095° and Solberg, NJ, 264° radials; to Solberg.

* * * * *

V-55 [Amended]

From Dayton, OH; to Fort Wayne, IN; From Gipper, MI; to Keeler, MI. From Grand Forks, ND; INT Grand Forks 239° and Bismarck, ND, 067° radials; to Bismarck.

* * * * *

V-84 [Amended]

From Geneseo, NY; INT Geneseo 091° and Syracuse, NY, 240° radials; to Syracuse.

* * * * *

V-170 [Amended]

From Jamestown, ND; Aberdeen, SD; to Sioux Falls, SD. From Rochester, MN; Nodine, MN; Dells, WI; INT Dells 097° and Badger, WI, 304° radials; to Badger. From Slate Run, PA; Selinsgrove, PA; Ravine, PA; INT Ravine 125° and Modena, PA, 318° radials; Modena; Dupont, DE; INT Dupont 223° and Andrews, MD, 060° radials; to INT Andrews 060° and Baltimore, MD, 165° radials. The airspace within R-5802 is excluded when active.

* * * * *

V-274 [Amended]

From Victory, MI; to Saginaw, MI.

* * * * *

Issued in Washington, DC, on December 5, 2025.
Alex W. Nelson,
Acting Manager, Rules and Regulations Group.

[FR Doc. 2025-22414 Filed 12-9-25; 8:45 am]

BILLING CODE 4910-13-P